DEPARTMENT OF HEALTH AND HUMAN SERVICES

Centers for Disease Control and Prevention

Research Project To Evaluate and Control Hazards to Landscaping and Grounds Management Workers; Request for Participants

AGENCY: National Institute for Occupational Safety and Health (NIOSH), Centers for Disease Control and Prevention, (CDC), Department of Health and Human Services (HHS).

ACTION: Request for pilot study participants.

SUMMARY: The National Institute for Occupational Safety and Health (NIOSH), within the Centers for Disease Control and Prevention (CDC), is initiating a research study to evaluate workplace hazards to landscapers, groundskeepers, hardscapers and arborists and to develop appropriate controls to minimize or eliminate those hazards. NIOSH is seeking up to nine firms in the landscaping and grounds management fields to participate in the pilot study that will evaluate how outdoor power tools can create hazards that may result in occupational health impacts. NIOSH will use this information to design effective solutions, such as engineering controls for power tools. The findings and controls information will be shared with participating workers and companies.

DATES: Submit letters of interest to participate in this research program prior to October 16, 2020.

ADDRESSES: Interested employers and/or workers should submit a letter of interest with information about their work activities and location to: NIOSH, Division of Field Studies and Engineering, Attn: Barbara Alexander, 1090 Tusculum Ave., MS R-5, Cincinnati, Ohio 45226, Email address: balexander@cdc.gov.

FOR FURTHER INFORMATION CONTACT: Barbara Alexander, 1090 Tusculum Ave., MS R-5, Cincinnati, Ohio 45226, Phone: 513-841-4581, Email address: balexander@cdc.gov.

SUPPLEMENTARY INFORMATION: The landscaping industry is composed primarily of small companies and is one of the most hazardous industries in the services sector with a fatality rate of 16.9 per 100,000 workers, compared to 3.5 per 100,000 workers for all industries in 2017.¹ The rate of non-fatal injuries in landscaping is also elevated.² Previous research conducted by NIOSH has shown that workers completing tasks similar to those performed by landscapers, groundskeepers, arborists, and hardscapers are exposed to hazardous levels of noise, carbon monoxide (CO), dust, and silica.³ For example, similar processes and tasks in the construction industry produce exposures that are well-characterized; substitutions and engineering controls appropriate to reducing these exposures are known and their effectiveness has been demonstrated.⁴ Previous NIOSH research has led to safer operations through interventions such as the design and development of dust controls on asphalt milling machines; ⁵ the development of reduced noise equipment for the “NIOSH Buy Quiet” initiative; ⁶ and the development of a website, www.silica-safe.org, which addresses silica hazards and controls in the construction industry. The data available for landscapers, hardscapers, arborists, and groundskeepers indicate that their burden of occupational exposure, illness and injury is potentially great.

¹ Census of Fatal Occupational Injuries (CFOI), Bureau of Labor Statistics, U. S. Department of Labor, https://www.bls.gov/iif/oshcfoi1.htm#other.

² Incidence rates of nonfatal occupational injuries and illnesses by industry and case types, 2018, Bureau of Labor Statistics, U.S. Department of Labor, https://www.bls.gov/iif/oshwc/osh/os/summ1_00_2018.htm.

³ NIOSH [2019]. Evaluation of wildland fire fighter exposures during fuel reduction projects. By Ramsey JG, Eisenberg J, Wiegand D, Brueck SE, McDowell TW. Cincinnati, OH: U.S. Department of Health and Human Services, Centers for Disease Control and Prevention, National Institute for Occupational Safety and Health, Health Hazard Evaluation Report 2015-0028-3330, https://www.cdc.gov/niosh/hhe/reports/pdfs/2015-0028-3330.pdf.

⁴ NIOSH [2007]. In-depth survey of dust control technology for cutting concrete block and tuckpointing brick, EPHB 282-13 Cincinnati, OH: U.S. Department of Health and Human Services, Centers for Disease Control and Prevention, National Institute for Occupational Safety and Health, https://www.cdc.gov/niosh/surveyreports/pdfs/282-13.pdf.

⁵ NIOSH [2015]. Best practice engineering control guidelines to control worker exposure to respirable crystalline silica during asphalt pavement milling. Cincinnati, OH: U.S. Department of Health and Human Services, Centers for Disease Control and Prevention, National Institute for Occupational Safety and Health, DHHS (NIOSH) Publication No. 2015-105 (accessed 1/9/2018).

⁶ https://www.cdc.gov/niosh/topics/buyquiet/default.html.

The study will consist of two parts. In the first part of the study, NIOSH will conduct site visits at work locations in accordance with the requirements of NIOSH regulations in 42 CFR part 85a. NIOSH investigators will collect data through small sampling devices that workers will wear while conducting normal working activities. This information will establish a baseline for exposures to potential hazards from the use of outdoor power equipment. In the second part of the study, NIOSH will test worker exposures while using tools which are designed to reduce exposures to noise, CO, dust, and silica. The reduced-exposure tools will be provided by NIOSH through the employer, and training in their correct use will be provided. The study is a unique opportunity to try new equipment on the market with low-emission and low-noise properties.

This pilot project will add to our understanding of hazards in this industry and will promote the implementation of effective controls. Participants selected for the study will receive a site visit report for their particular site, workers, and processes, as well as a consolidated report of overall findings and recommendations. A research report from this study will be prepared and made publicly available at the end of the research. Company and participant names will not be included in the report.

Frank J. Hearl,
Chief of Staff, National Institute for Occupational Safety and Health, Centers for Disease Control and Prevention.

[FR Doc. 2020-00246 Filed 1-9-20; 8:45 am]

BILLING CODE 4163-18-P